DEPARTMENT OF ENERGY

Federal Energy Regulatory Commission

[Docket Nos. CP14-71-000, CP14-72-000, CP14-73-000]

Excelerate Liquefaction Solutions (Port Lavaca 1), LLC; Excelerate Liquefaction Solutions (Port Lavaca 2), LLC; Lavaca Bay Pipeline System, LLC; Notice of Application

Take notice that on February 6, 2014, Excelerate Liquefaction Solutions (Port Lavaca 1), LLC (ELS 1) and Excelerate Liquefaction Solutions (Port Lavaca 2), LLC (ELS 2), 1450 Lake Robbins, Suite 200, The Woodlands, Texas, 77380, filed an application in Docket Nos. CP14-71-000 and CP14-72-000 pursuant to Section 3(a) of the Natural Gas Act (NGA), and Parts 153 and 380 of the regulations of the Commission's regulations, for authority to site, construct, and operate a liquefied natural gas (LNG) floating liquefaction, storage, and offloading unit (FLSO) and related facilities (LNG Terminal) to be located in and around the Port of Port Lavaca-Point Comfort, Texas. Each proposed FLSO will have an LNG peak production capacity of up to 5 million tonnes per annum (mtpa), for a total peak production capacity of up to 10 mtpa.

In addition, pursuant to Section 7(c) of the NGA, as amended, and Parts 157, 284, and 380 of the Commission's regulations, Lavaca Bay Pipeline System LLC (Lavaca Bay Pipeline), 1450 Lake Robbins, Suite 200, The Woodlands, Texas, 77380, together with ELS 1 and ELS 2, requests, in Docket No. CP14-73-000, a certificate of public convenience and necessity for a proposed 29.5-mile long, 42-inch diameter natural gas pipeline, with associated compressor units, interconnection facilities, and other appurtenant facilities required to transport natural gas from interconnections with existing pipeline systems to the LNG Terminal for processing, liquefaction, and export, all as more fully set forth in the application, which is on file with the Commission and open to public inspection. This filing may also be viewed on the web at http://www.ferc.gov using the “eLibrary” link. Enter the docket number excluding the last three digits in the docket number field to access the document. For assistance, contact FERC at FERCOnlineSupport@ferc.gov or call toll-free, (886) 208-3676 or TYY, (202) 502-8659.

Any questions regarding this application should be directed to Jessica Fore, Baker Botts LLP, 1299 Pennsylvania Avenue NW., Washington, DC 20004, or by calling (202) 639-7727 (telephone), or (202) 585-1080 (fax), or email jessica.fore@bakerbotts.com, or to Martin Hruska, Excelerate Energy LP, 1450 Lake Robbins, Suite 200, The Woodlands, Texas 77380, or by calling (832) 813-7606 (telephone), or (832) 813-7103 (fax) or email martin.hruska@excelerateenergy.com.

On November 20, 2012, the Commission staff granted ELS 1, ELS 2, and Lavaca Bay Pipeline's request to use the pre-filing process and assigned Docket No. PF13-1-000 to staff activities involving the project. Now, as of the filing of this application on February 6, 2014, the NEPA Pre-Filing Process for this project has ended. From this time forward, this proceeding will be conducted in Docket Nos. CP14-71-000, CP14-72-000, and CP14-73-000 as noted in the caption of this Notice.

Pursuant to Section 157.9 of the Commission's rules, 18 CFR 157.9, within 90 days of this Notice, the Commission staff will issue a Notice of Schedule for Environmental Review. If a Notice of Schedule for Environmental Review is issued, it will indicate, among other milestones, the anticipated date for the Commission staff's issuance of the final environmental impact statement (FEIS) for this proposal. The issuance of a Notice of Schedule for Environmental Review will serve to notify federal and state agencies of the timing for the completion of all necessary reviews, and the subsequent need to complete all federal authorizations within 90 days of the date of issuance of the Commission staff's FEIS.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 5 copies of the protest or intervention to the Federal Energy Regulatory Commission, 888 First Street NE., Washington, DC 20426. See, 18 CFR 385.2001(a)(1)(iii) and the instructions on the Commission's Web site under the “e-Filing” link.

Comment Date: March 17, 2014.

Dated: February 24, 2014.
Kimberly D. Bose,
Secretary.

[FR Doc. 2014-04509 Filed 2-28-14; 8:45 am]

BILLING CODE 6717-01-P